NUCLEAR REGULATORY COMMISSION

[Docket No. 050-00482; NRC-2019-0159]

In the Matter of Wolf Creek Nuclear Operating Corporation; Wolf Creek Generating Station

AGENCY: Nuclear Regulatory Commission.

ACTION: Confirmatory order; issuance.

SUMMARY: The U.S. Nuclear Regulatory Commission (NRC) issued a confirmatory order to Wolf Creek Nuclear Operating Corporation on July 18, 2019. The purpose of the confirmatory order was to document commitments that were made as part of a settlement agreement between Wolf Creek Nuclear Operating Corporation and the NRC to address an apparent violation related to craft personnel deliberately falsifying records regarding a work order associated with the cleaning and inspection of control rod drive mechanisms.

DATES: The confirmatory order was issued and effective on July 18, 2019.

ADDRESSES: Please refer to Docket ID NRC-2019-0159 when contacting the NRC about the availability of information regarding this document. You may obtain publicly-available information related to this document using any of the following methods:

• Federal Rulemaking Website: Go to https://www.regulations.gov and search for Docket ID NRC-2019-0159. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Confirmatory Order to Wolf Creek Nuclear Operating Corporation is available in ADAMS under Accession No. ML19198A313.

• NRC's PDR: You may examine and purchase copies of public documents at the NRC's PDR, Room O1-F21, One White Flint North, 11555 Rockville Pike, Rockville, Maryland 20852.

FOR FURTHER INFORMATION CONTACT: John Kramer, Region IV, U.S. Nuclear Regulatory Commission, Arlington, TX 76011-4511; telephone: 817-200-1121, email: John.Kramer@nrc.gov.

SUPPLEMENTARY INFORMATION: The text of the Order is attached.

Dated at Rockville, Maryland, this 26th day of July, 2019.
For the Nuclear Regulatory Commission.
Scott A. Morris,
Regional Administrator, NRC Region IV.

Attached—Confirmatory Order.

I

Wolf Creek Nuclear Operating Corporation (Wolf Creek or Licensee) is the holder of Facility Operating License No. NPF-42 issued by the U.S. Nuclear Regulatory Commission (NRC or Commission) pursuant to Part 50 of Title 10 of the Code of Federal Regulations (10 CFR), “Domestic Licensing of Production and Utilization Facilities.” The license authorizes the operation of Wolf Creek Generating Station (facility) in accordance with conditions specified therein. The facility is located on the Licensee's site in Burlington, Kansas.

This Confirmatory Order is the result of a preliminary settlement agreement reached during an alternative dispute resolution (ADR) mediation session conducted on May 30, 2019.

II

On November 22, 2017, the NRC's Office of Investigations (OI), Region IV Field Office, opened an investigation (OI Case 4-2018-008) at the Wolf Creek facility to determine whether craft personnel deliberately falsified records regarding a work order. On November 13, 2018, the investigation was completed. Based on the evidence developed during its investigation, the NRC identified an apparent violation of 10 CFR 50.9, “Completeness and accuracy of information,” in that, on October 31, 2016, a maintenance worker and a supervisor documented inaccurate information regarding the cleaning and inspection of control rod drive mechanisms. By letter dated April 2, 2019 (Agencywide Documents Access and Management System (ADAMS) Accession ML19092A335), the NRC notified Wolf Creek of the results of the investigation with the opportunity to attend a predecisional enforcement conference or to participate in an ADR mediation session in an effort to resolve the concern.

In response to the NRC's offer, Wolf Creek requested the use of the NRC's ADR process to resolve the concerns. On May 30, 2019, the NRC and Wolf Creek met in an ADR session mediated by a professional mediator arranged through the Cornell University's Institute on Conflict Resolution. The ADR process is one in which a neutral mediator, with no decision-making authority, assists the parties in reaching an agreement on resolving any differences regarding the dispute. The terms of this Confirmatory Order are based on the elements of the agreement reached during the ADR session.

III

During the ADR session held on May 30, 2019, Wolf Creek and the NRC reached a preliminary settlement agreement. Corrective actions already taken by Wolf Creek that were discussed included:

A. The Chief Nuclear Officer issued a communication to the entire plant regarding expectations for accurately performing and documenting work activities, focusing on “Your Signature Is Your Word” and “Look for, Understand, and Mitigate Risk” related to making assumptions.

B. Wolf Creek performed remediation with the individuals involved to reinforce and institutionalize Wolf Creek standards and expectations with a focus on complete and accurate documentation, which included face-to-face discussion with the plant manager and the site vice president.

C. Wolf Creek developed a procedure AP18-001, “Emerging Concerns,” to improve the quality of investigations, including investigations involving deliberate misconduct.

D. Wolf Creek conducted an internal investigation into employee deliberate misconduct with external counsel.

Additional commitments made in the preliminary settlement agreement, as signed by both parties, consist of the following:

Communications

A. Within 1 month of the issuance date of the Confirmatory Order, Wolf Creek will issue a stand-alone communication from the Chief Nuclear Officer to all employees and contractor personnel that willful violations will not be tolerated. The communication will stress the importance of procedural adherence, ensuring that documents are complete and accurate, and of potential consequences for engaging in willful violations. This message will be balanced with the recognition that people do make mistakes and when that happens, it is Wolf Creek's expectation that its employees and contractors will identify and document issues in accordance with licensee procedures.

B. Within 4 months of the issuance date of the Confirmatory Order, Wolf Creek will hold meetings with all employees and long-term contractor personnel to address integrity and trustworthiness. The meetings will: (1) Stress the importance of procedural adherence, ensuring that documents are complete and accurate, and of potential consequences for engaging in willful violations; (2) describe the circumstances of this case, the results of the root cause evaluation, and Wolf Creek's corrective actions; (3) include the expectation to immediately raise safety concerns when observed; (4) address how to proceed when work order documentation is incomplete.

C. Within 4 months of the issuance date of the Confirmatory Order, Wolf Creek will reinforce expectations with regards to 10 CFR 50.9, completeness and accuracy of information, and 10 CFR 50.5, deliberate misconduct, by providing an overview of the last 5 years of pertinent NRC enforcement actions with Operations, Fire Watch, Maintenance, and Radiation Protection staff.

D. Within 6 months of the issuance date of the Confirmatory Order, Wolf Creek will complete its efforts to reinforce site expectations through posters and the morning brief communications, which will specifically address 10 CFR 50.9 and 10 CFR 50.5, and its applicable “Professional to the Core” behaviors meant to ensure high quality work and high-quality work products.

E. Within 6 months of the issuance date of this Confirmatory Order, Wolf Creek will develop a presentation to be delivered to an appropriate industry forum (e.g., Regional Utility Group or Strategic Teaming and Resource Sharing) subject to acceptance of the conference organizing committees.

1. This presentation will include the significance of the incident that formed the basis for this violation, the consequences of the actions, the responsibilities of personnel involved, and the completed and planned corrective actions.

2. Wolf Creek will provide its proposed presentation to the NRC for its review. The NRC will communicate to the licensee any concerns regarding the presentation within 30 days of submittal.

F. Within 18 months of the issuance date of this Confirmatory Order, Wolf Creek will deliver the presentation developed in Element E to an industry forum.

Evaluation

G. Within 3 months of the issuance date of the Confirmatory Order, Wolf Creek will complete a root cause analysis of the circumstances that led to the incomplete and inaccurate information violation and develop corrective actions.

H. Within 6 months of the issuance date of the Confirmatory Order, Wolf Creek will benchmark 2 other licensee sites to determine how other licensees detect and address incomplete and inaccurate information, including falsified records, and then develop actions from the benchmarks as appropriate.

Training

I. Within 4 months of the issuance date of this Confirmatory Order, Wolf Creek will provide in-person training to station staff (employees and long-term contractors) that emphasizes expectations for completeness and accuracy in documentation, the expectation to stop when unsure, the expectation to write a condition report if encountering unexpected conditions, and what it means when an individual signs or initials a document. Wolf Creek will add training on these subjects to initial or “onboarding” training. The scope of the initial training may differ between Wolf Creek employees and contractors.

J. Within 12 months of the issuance date of this Confirmatory Order, Wolf Creek will provide training to all maintenance personnel (craft, supervisors, and managers) that describes work order process timeliness, signature or initial requirements, and the process to follow if documents are incomplete (e.g., missing signatures). Subsequently, a training request will be initiated to analyze training frequency on this topic and Wolf Creek will follow its training process to completion.

K. Within 12 months of the issuance date of this Confirmatory Order, Wolf Creek will implement annual compliance and ethics training to all employees to address 10 CFR 50.9 and 10 CFR 50.5, compliance therewith, and consequences for non-compliance. In addition, the training will describe what it means when an individual signs or initials a document.

Corrective Actions

L. Within 6 months of the completion of refueling outage 23, Wolf Creek will perform a self-assessment on work order documentation quality by sampling 40 quality-related sub-work order packages performed during the refueling outage. The work order packages selected shall include substantial in-field work. The sample scope will be approved by the regulatory affairs manager and provided to the Wolf Creek NRC resident staff. The assessment team composition shall include an external peer in addition to station personnel. The results of the self-assessment will be reviewed by the Corrective Action Review Board and documented in the corrective action program system.

M. Within 6 months of the completion of refueling outage 24, Wolf Creek will perform a self-assessment on work order documentation quality by sampling 40 quality-related sub-work order packages performed during the refueling outage. The work order packages selected shall include substantial in-field work. The sample scope will be approved by the regulatory affairs manager and provided to the Wolf Creek NRC resident staff. The assessment team composition shall include an external peer in addition to station personnel. The results of the self-assessment will be reviewed by the Corrective Action Review Board and documented in the corrective action program system.

N. Within 4 months of the issuance date of the Confirmatory Order, Wolf Creek will conduct a nuclear safety culture survey developed by a third-party.

O. Within 30 months of the completion of the survey in Element N, Wolf Creek will conduct a second nuclear safety culture survey.

P. By December 31 of 2020, 2021, and 2022, Wolf Creek will perform an annual effectiveness review of its corrective actions associated with the Confirmatory Order. The annual effectiveness review will include the insights from benchmarks, site performance, self-assessments, and safety culture surveys. Wolf Creek will modify its corrective actions, as needed and consistent with this Confirmatory Order, based on the results of the annual effectiveness review.

Administrative Items

Q. By December 31 of each year until 2023, Wolf Creek will provide in writing to the Regional Administrator, Region IV, a summary of the actions implemented under this Confirmatory Order, the results achieved, and any additional corrective actions initiated as a result of this Confirmatory Order.

R. Wolf Creek will retain a copy, for 5 years from document creation, of all documents created as a result of this Confirmatory Order.

S. In the event of the transfer of the license of Wolf Creek to another entity, the terms and conditions set forth hereunder shall continue to apply to the new entity and accordingly survive any transfer of ownership or license.

T. In consideration of the elements delineated above, the NRC agrees not to issue a Notice of Violation for the violation discussed in NRC Inspection Report 05000482/2019010 and NRC Investigation Report 4-2018-008 dated April 2, 2019 (EA-18-165) and not to issue an associated civil penalty.

U. The NRC will consider the Confirmatory Order an escalated enforcement action with respect to any future enforcement actions.

V. The NRC and Wolf Creek agree that the above elements will be incorporated into a Confirmatory Order.

Based on the completed actions described above, and the commitments described in Section V below, the NRC agrees to not pursue any further enforcement action based on the apparent violation identified in the NRC's April 2, 2019, letter.

On July 11, 2019, Wolf Creek consented to issuing this Confirmatory Order with the commitments, as described in Section V below. Wolf Creek further agreed that this Confirmatory Order is to be effective upon issuance, the agreement memorialized in this Confirmatory Order settles the matter between the parties, and that it has waived its right to a hearing.

IV

I find that Wolf Creek's actions completed, as described in Section III above, combined with the commitments as set forth in Section V are acceptable and necessary, and conclude that with these commitments the public health and safety are reasonably assured. In view of the foregoing, I have determined that public health and safety require that Wolf Creek's commitments be confirmed by this Confirmatory Order. Based on the above and Wolf Creek's consent, this Confirmatory Order is effective upon issuance.

V

Accordingly, pursuant to Sections 103, 161b., 161i., 161o., 182, and 186 of the Atomic Energy Act of 1954, as amended, and the Commission's regulations in 10 CFR 2.202 and 10 CFR part 50, IT IS HEREBY ORDERED, EFFECTIVE UPON ISSUANCE, THAT LICENSE NO. NPF-42 IS MODIFIED AS FOLLOWS:

Communications

A. Within 1 month of the issuance date of this Confirmatory Order, Wolf Creek will issue a stand-alone communication from the Chief Nuclear Officer to all employees and contractor personnel that willful violations will not be tolerated. The communication will stress the importance of procedural adherence, ensuring that documents are complete and accurate, and of potential consequences for engaging in willful violations. This message will be balanced with the recognition that people do make mistakes and when that happens, it is Wolf Creek's expectation that its employees and contractors will identify and document issues in accordance with licensee procedures.

B. Within 4 months of the issuance date of this Confirmatory Order, Wolf Creek will hold meetings with all employees and long-term contractor personnel to address integrity and trustworthiness. The meetings will: (1) Stress the importance of procedural adherence, ensuring that documents are complete and accurate, and of potential consequences for engaging in willful violations; (2) describe the circumstances of this case, the results of the root cause evaluation, and Wolf Creek's corrective actions; (3) include the expectation to immediately raise safety concerns when observed; (4) address how to proceed when work order documentation is incomplete.

C. Within 4 months of the issuance date of this Confirmatory Order, Wolf Creek will reinforce expectations with Operations, Fire Watch, Maintenance, and Radiation Protection staff with regards to 10 CFR 50.9, completeness and accuracy of information, and 10 CFR 50.5, deliberate misconduct, by providing an overview of the last 5 years of pertinent NRC-wide enforcement actions.

D. Within 6 months of the issuance date of this Confirmatory Order, Wolf Creek will complete its efforts to reinforce site expectations through posters and the morning brief communications, which will specifically address 10 CFR 50.9 and 10 CFR 50.5, and its applicable “Professional to the Core” behaviors meant to ensure high quality work and high-quality work products.

E. Within 6 months of the issuance date of this Confirmatory Order, Wolf Creek will develop a presentation to be delivered to an appropriate industry forum (e.g., Regional Utility Group or Strategic Teaming and Resource Sharing) subject to acceptance of the conference organizing committees.

1. This presentation will include the significance of the incident that formed the basis for this violation, the consequences of the actions, the responsibilities of personnel involved, and the completed and planned corrective actions.

2. Wolf Creek will provide its proposed presentation to the NRC for its review. The NRC will communicate to the licensee any concerns regarding the presentation within 30 days of submittal.

F. Within 18 months of the issuance date of this Confirmatory Order, Wolf Creek will deliver the presentation developed in Element E to an industry forum.

Evaluation

G. Within 3 months of the issuance date of this Confirmatory Order, Wolf Creek will complete a root cause analysis of the circumstances that led to the incomplete and inaccurate information violation and develop corrective actions.

H. Within 6 months of the issuance date of this Confirmatory Order, Wolf Creek will benchmark 2 other licensee sites to determine how other licensees detect and address incomplete and inaccurate information, including falsified records, and then develop actions from the benchmarks as appropriate.

Training

I. Within 4 months of the issuance date of this Confirmatory Order, Wolf Creek will provide in-person training to station staff (employees and long-term contractors) that emphasizes expectations for completeness and accuracy in documentation, the expectation to stop when unsure, the expectation to write a condition report if encountering unexpected conditions, and what it means when an individual signs or initials a document. Wolf Creek will add training on these subjects to initial or “onboarding” training. The scope of the initial training may differ between Wolf Creek employees and contractors.

J. Within 12 months of the issuance date of this Confirmatory Order, Wolf Creek will provide training to all maintenance personnel (craft, supervisors, and managers) that describes work order process timeliness, signature or initial requirements, and the process to follow if documents are incomplete (e.g., missing signatures). Subsequently, a training request will be initiated to analyze training frequency on this topic and Wolf Creek will follow its training process to completion.

K. Within 12 months of the issuance date of this Confirmatory Order, Wolf Creek will implement annual compliance and ethics training to all employees to address 10 CFR 50.9 and 10 CFR 50.5, compliance therewith, and consequences for non-compliance. In addition, the training will describe what it means when an individual signs or initials a document.

Corrective Actions

L. Within 6 months of the completion of Refueling Outage 23, Wolf Creek will perform a self-assessment on work order documentation quality by sampling 40 quality-related sub-work order packages performed during the refueling outage. The work order packages selected shall include substantial in-field work. The sample scope will be approved by the regulatory affairs manager and provided to the Wolf Creek NRC resident staff. The assessment team composition shall include an external peer in addition to station personnel. The results of the self-assessment will be reviewed by the Corrective Action Review Board and documented in the corrective action program system.

M. Within 6 months of the completion of Refueling Outage 24, Wolf Creek will perform a self-assessment on work order documentation quality by sampling 40 quality-related sub-work order packages performed during the refueling outage. The work order packages selected shall include substantial in-field work. The sample scope will be approved by the regulatory affairs manager and provided to the Wolf Creek NRC resident staff. The assessment team composition shall include an external peer in addition to station personnel. The results of the self-assessment will be reviewed by the Corrective Action Review Board and documented in the corrective action program system.

N. Within 4 months of the issuance date of this Confirmatory Order, Wolf Creek will conduct a nuclear safety culture survey developed by a third-party.

O. Within 30 months of the completion of the survey in Element N, Wolf Creek will conduct a second nuclear safety culture survey.

P. By December 31 of 2020, 2021, and 2022, Wolf Creek will perform an annual effectiveness review of its corrective actions associated with this Confirmatory Order. The annual effectiveness review will include the insights from benchmarks, site performance, self-assessments, and safety culture surveys. Wolf Creek will modify its corrective actions as needed, and consistent with this Confirmatory Order, based on the results of the annual effectiveness review.

Administrative Items

Q. By December 31 of each year until 2023, Wolf Creek will provide in writing to the Regional Administrator, Region IV, a summary of the actions implemented under this Confirmatory Order, the results achieved, and any additional corrective actions initiated as a result of this Confirmatory Order.

R. Wolf Creek will retain a copy, for 5 years from document creation, of all documents created as a result of this Confirmatory Order.

In the event of the transfer of the license of Wolf Creek to another entity, the terms and conditions set forth hereunder shall continue to apply to the new entity and accordingly survive any transfer of ownership or license. The NRC will consider this Confirmatory Order an escalated enforcement action with respect to any future enforcement actions at Wolf Creek. The Regional Administrator, Region IV, may, in writing, relax or rescind any of the above conditions upon demonstration by Wolf Creek of good cause.

VI

In accordance with 10 CFR 2.202 and 10 CFR 2.309, any person adversely affected by this Confirmatory Order, other than Wolf Creek, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person (other than Wolf Creek) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission.

Dated this 18th day of July 2019.

Scott A. Morris,

Regional Administrator, NRC Region IV.

[FR Doc. 2019-16367 Filed 7-31-19; 8:45 am]

BILLING CODE 7590-01-P